GENERAL SERVICES ADMINISTRATION

Notice of Second Public Scoping Meeting for an Environmental Impact Statement and the Announcement of Alternative Sites

AGENCY: General Services Administration, National Capital Region; Department of Transportation.

ACTION: Proposed lease acquisition of a new or renovated headquarters for the Department of Transportation in the Central Employment Area (CEA) of Washington, DC.

SUMMARY: The General Services Administration (GSA), which previously announced its intent to prepare an Environmental Impact Statement (EIS) for the lease acquisition of a new or renovated headquarters for the Department of Transportation (DOT) to be located in the CEA of Washington, DC, at this time announces its intent to conduct a second public scoping meeting to discuss the proposed action pursuant to Section 102(2)(C) of the National Environmental Policy Act of 1969 (NEPA), as implemented by the Council of Environmental Quality regulations (40 CFR Parts 1500-1508), Section 106 of the National Historic Preservation Act of 1966, as amended, and in accordance with the Environmental Policies and Procedures implemented by GSA.

Background Information

DOT seeks to update its facilities, maximize efficiency, and reorganize and consolidate its operations. To this end, Congress has authorized GSA, acting on behalf of DOT, to acquire up to 1.35 million rentable square feet of space under an operating lease for a term not to exceed twenty years. This procurement is designed to establish a competitive process to obtain a new or renovated headquarters for DOT.

The DOT's headquarters operations are currently housed primarily in two leased locations: the Nassif Building at 400 7th Street, SW, Washington, DC, and the Transpoint Building at 2100 2nd Street, SW, Washington, DC. In addition, DOT occupies smaller blocks of leased space in other buildings in Washington, DC. All of these locations are proposed to be consolidated into the new headquarters. DOT also utilizes FOB 10A as the headquarters for the Federal Aviation Administration, but these operations are not proposed as part of this consolidation.

DOT first occupied the Nassif Building under a 20-year lease that commenced on January 2, 1970. A 10-year renewal commenced April 1, 1990 and expires on March 31, 2000. The Transpoint Building was first occupied by DOT in 1973. The current lease expires in May 15th, 2003.

Consolidation in a new or renovated headquarters will produce significant operating efficiencies in support of DOT's mission. This procurement is the result of a three-year collaborative effort by the DOT, GSA, the Executive Branch, and Congress.

The lease acquisition for a DOT headquarters complex is being conducted in accordance with all applicable laws and regulations pertaining to GSA's acquisition of lease space. These laws and regulations include, but are not limited to, NEPA, the Competition in Contracting Act, the National Historic Preservation Act, the General Services Acquisition Regulations, and, where applicable, the Federal Acquisition Regulation. The Government is conducting this procurement as a negotiated, best value source selection. Under this approach, a panel of Government officials will select the proposal that satisfies all of the Government's minimum requirements as stated in the Solicitation For Offers (SFO), and presents the greatest overall value to the Government, considering price and technical factors stated in the SFO.

Public Scoping

GSA and DOT determined that a comprehensive EIS is the appropriate means of identifying the potential adverse impacts from this proposed Federal action. A Notice of Intent to prepare an EIS and conduct an initial public scoping meeting was issued on June 30, 1999. The initial public scoping meeting was held on July 29, 1999 to assist GSA in determining the significant issues related to this project prior to the submittal of offers. The subject of this notice is a second public scoping meeting that will be held to solicit input from agencies and the public relating to the alternative site locations that will be included in the EIS.

This second public scoping will be held at 7 pm on Tuesday, April 11, 2000, at the Ronald Reagan Building and International Trade Center. The meeting will be advertised in local and regional newspapers as the date of the meeting approaches. At the meeting, a short formal presentation will precede the request for public comments. GSA representatives will be available to receive comments from the public regarding issues of concern, including comments on the potential impacts of the proposed project, means of mitigating those impacts, and project alternatives. It is important that Federal, regional, state and local agencies, and interested individuals and groups take this opportunity to identify environmental concerns that should be addressed during the preparation of the Draft EIS. In the interest of available time, each speaker will be asked to limit oral comments to five (5) minutes. A document summarizing the written and oral comments received will be prepared and made publicly available.

Agencies and the general public are encouraged to provide written comments on the scoping issues in addition to, or in lieu of, presenting oral comments at the public meeting. Environmental review/scoping comments should clearly describe specific issues or topics that the community believes the EIS should address.

Written comments will be accepted through April 24, 2000. The comments received during the scoping process will be considered in preparing the Draft EIS. The public is encouraged to provide additional comments after the Draft EIS is released. GSA anticipates that the Draft EIS will be released in the Spring of 2000.

Topics for environmental analysis include the short-term impacts of construction and the long-term impacts of site operations and maintenance on land use, historic resources, visual resources, physical and biological resources, public transportation, traffic and parking, public services and utilities, and socio-economic conditions. The environmental analysis will also address cumulative impacts associated with this and other future projects in the CEA of the District of Columbia.

Project Information

An informational packet regarding this project will be available for review at the April 11, 2000 public scoping meeting or upon request to the GSA contact identified below. The informational packet and other information regarding this project will also be made available on the Internet.

The five (5) action alternative under consideration by GSA as possible locations for the consolidated DOT headquarters complex include the following:

Alt. #1—801 New Jersey Avenue, NW

Alt. #2—400 7th Street, SW

Alt. #3—1200 Maryland Avenue, SW

Alt. #4—Southeast Federal Center Site, Option A

Alt. #5—Southeast Federal Center Site, Option B

TIME AND LOCATION OF MEETING: The public meeting will be held: At 7:00 p.m., Tuesday, April 11, 2000 at the Ronald Reagan Building and International Trade Center Horizon Ballroom, (Ground Level, 13½ Street Entrance), 13th Street and Pennsylvania Avenue, NW, Washington, DC 20004.

DATES: Written comments regarding environmental review of the proposed DOT headquarters project must be postmarked no later than April 24, 2000, to the following address: General Services Administration, Attn: Mr. John Simeon, Portfolio Development Division (WPC), 7th and D Streets, SW., Suite 2002, Washington, DC 20407.

FOR FURTHER INFORMATION PLEASE CONTACT: Mr. John Simeon, General Services Administration, (202) 260-9586.

Dated: March 17, 2000.
Anthony E. Costa,
Assistant Regional Administrator Public Buildings Service.

[FR Doc. 00-7059 Filed 3-21-00; 8:45 am]

BILLING CODE 6820-23-M